DEPARTMENT OF LABOR

Employment and Training Administration

[TA-W-37,011 and NAFTA-3527]

Cooper Energy Services, Grove City, PA; Notice of Affirmative Determination Regarding Application for Reconsideration

By letter of January 31, 2000, the petitioners request administrative reconsideration of the Department of Labor's Notice of Negative Determinations Regarding Eligibility to Apply for Worker Adjustment Assistance (TAA) and North American Free Trade Agreement-Transitional Adjustment Assistance (NAFTA-TAA) application to workers and former workers of the subject firm. The denial notices were signed on January 14, 2000, and published in the Federal Register on February 4, 2000 (65 FR 5690) and (65 FR 5691), respectively.

The petitioners present evidence that some of the production performed by workers at the subject firm has been shifted to Canada and is returning to the United States.

Conclusion

After careful review of the application, I conclude that the claim is of sufficient weight to justify reconsideration of the Department of Labor's prior decision. The application is, therefore, granted.

Signed at Washington, D.C. this 27th day of April 2000.
Grant D. Beale,
Program Manager, Division of Trade Adjustment Assistance.

[FR Doc. 00-11109 Filed 5-3-00; 8:45 am]

BILLING CODE 4510-03-M